DEPARTMENT OF HEALTH AND HUMAN SERVICES

Administration for Children and Families

Proposed Information Collection Activity; Comprehensive Child Welfare Information System (CCWIS) Automated Function Checklist and Data Quality Plan (OMB #0970-0463)

AGENCY: Children's Bureau, Administration for Children and Families, HHS.

ACTION: Request for public comment.

SUMMARY: The Administration for Children and Families (ACF) is requesting a 3-year extension of the Comprehensive Child Welfare Information System (CCWIS) information collection (OMB #0970-0463, expiration 8/31/2022). The CCWIS information collection includes the Automated Function List and the Data Quality Plan. There are no required instruments associated with the data collection and no changes to the data collection.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The CCWIS information collection includes two components:

• The Automated Function List update required pursuant to section 1355.52(i)(2); and

• The Data Quality Plan update required pursuant to section 1355.52(d)(5).

The CCWIS regulations require updates of this information to confirm that the project meets CCWIS requirements and that project costs are appropriately allocated to benefiting programs.

Respondents: Title IV-E agencies under the Social Security Act.

Annual Burden Estimates
Instrument | Total number of respondents | Total number of responses per respondent | Average burden hours per response | Annual burden hours
Automated Function List section 1355.52(i)(2) | 55 | 1 | 10 | 550
Data Quality Plan section 1355.52(d)(5) | 55 | 1 | 40 | 2,200

Estimated Annual Burden Hours: 2,750.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 620 et seq., 42 U.S.C. 670 et seq., 42 U.S.C. 1301 and 1302.

Mary B. Jones,
ACF/OPRE Certifying Officer.

[FR Doc. 2022-02363 Filed 2-3-22; 8:45 am]

BILLING CODE 4184-25-P